DEPARTMENT OF TRANSPORTATION

Federal Aviation Administration

14 CFR Part 39

[Docket No. FAA-2008-1328; Directorate Identifier 2008-CE-066-AD; Amendment 39-15776; AD 2008-26-10]

RIN 2120-AA64

Airworthiness Directives; Cessna Aircraft Company 172, 175, 177, 180, 182, 185, 188, 206, 207, 208, 210, 303, 336, and 337 Series Airplanes

AGENCY: Federal Aviation Administration (FAA), DOT.

ACTION: Final rule; request for comments.

SUMMARY: The FAA is adopting a new airworthiness directive (AD) for certain Cessna Aircraft Company (Cessna) 172, 175, 177, 180, 182, 185, 188, 206, 207, 208, 210, 303, 336, and 337 series airplanes. This AD requires you to inspect the alternate static air source selector valve to assure that the part number identification placard does not obstruct the alternate static air source selector valve port. If the part number identification placard obstructs the port, this AD also requires you to remove the placard, assure that the port is unobstructed, and report to the FAA if obstruction is found. This AD results from reports of airplanes found with alternate static air source selector valve port obstruction caused by improper installation of the part number identification placard. The actions specified by this AD are intended to prevent erroneous indications from the altimeter, airspeed, and vertical speed indicators, which could cause the pilot to react to incorrect flight information and possibly result in loss of control.

DATES: This AD becomes effective on January 5, 2009.

On January 5, 2009, the Director of the Federal Register approved the incorporation by reference of certain publications listed in this AD.

We must receive any comments on this AD by February 23, 2009.

ADDRESSES: Use one of the following addresses to comment on this AD.

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

To get the service information identified in this AD, contact Cessna Aircraft Company, P.O. Box 7704, Wichita, Kansas 67277; telephone: (800) 423-7762 or (316) 517-6056; Internet: http://www.cessna.com.

To view the comments to this AD, go to http://www.regulations.gov. The docket number is FAA-2008-1328; Directorate Identifier 2008-CE-066-AD.

FOR FURTHER INFORMATION CONTACT: Ann Johnson, Aerospace Engineer, FAA, Wichita Aircraft Certification Office, 1801 Airport Road, Room 100, Wichita, Kansas 67209; telephone: 316-946-4105; fax: 316-946-4107; e-mail address: ann.johnson@faa.gov.

SUPPLEMENTARY INFORMATION:

Discussion

Reports of improper installation of the part number (P/N) identification placard on P/N 2013142-18 alternate static air source selector valves prompted us to issue AD 98-01-01, Amendment 39-10286 (63 FR 3455, January 23, 1998), which applies to certain Cessna Aircraft Company (Cessna) Models 172R and 182S airplanes, and AD 2008-10-02, Amendment 39-155508 (73 FR 24168, May 2, 2008), which applies to certain Cessna 172, 175, 180, 182, 185, 206, 207, 208, 210, and 303 series airplanes.

These ADs require inspecting the alternate static air source selector valve to determine if the P/N identification placard obstructs the alternate static air source selector valve port and removing the placard if obstruction is found. These ADs also require reporting to the FAA if obstruction is found.

These assemblies are required for flight into instrument flight rules (IFR) conditions as defined in Sec. 91.411 of the Federal Aviation Regulations (14 CFR 91.411). Use of these assemblies is optional in visual flight rules (VFR) conditions.

After issuing AD 98-01-01 and AD 2008-10-02, we received reports of 15 airplanes not previously affected by either AD with a P/N 2013142-18 installed and the alternate static air source selector valve port was found obstructed by the P/N identification placard.

We have been informed that all P/N 2013142-18 alternate static air source selector valves shipped from Cessna Parts Distribution between January 1, 1993, and March 31, 2008, may have port obstruction caused by the P/N identification placard.

This condition, if not corrected, could result in the altimeter, airspeed, and vertical speed indicators displaying erroneous indications. This could cause the pilot to react to incorrect flight information and possibly result in loss of control.

Relevant Service Information

We reviewed Cessna Single Engine Service Bulletin, SB08-34-02, Revision 1, and Cessna Caravan Service Bulletin CAB08-4, Revision 1, both dated October 6, 2008; Cessna Single Engine Service Bulletin SEB08-5 and Cessna Multi-engine Service Bulletin MEB08-6, both dated October 13, 2008.

The service information describes procedures for inspecting the alternate static air source selector valve to assure that the P/N identification placard does not obstruct the alternate static air source selector valve port.

FAA's Determination and Requirements of This AD

We are issuing this AD because we evaluated all the information and determined the unsafe condition described previously is likely to exist or develop on other products of the same type design. This AD requires inspecting the alternate static air source selector valve to assure that the P/N identification placard does not obstruct the alternate static air source selector valve port. If the P/N identification placard obstructs the port, this AD requires you to remove the placard, assure that the port is unobstructed, and report to the FAA if obstruction is found.

FAA's Determination of the Effective Date

Since an unsafe condition exists that requires the immediate adoption of this AD, we determined that notice and opportunity for public comment before issuing this AD are impracticable, and that good cause exists for making this amendment effective in fewer than 30 days.

Comments Invited

This AD is a final rule that involves requirements affecting flight safety, and we did not precede it by notice and an opportunity for public comment. We invite you to send any written relevant data, views, or arguments regarding this AD. Send your comments to an address listed under the ADDRESSES section. Include the docket number “FAA-2008-1328; Directorate Identifier 2008-CE-066-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact we receive concerning this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

Examining the AD Docket

You may examine the AD docket that contains the AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding a new AD to read as follows:

2008-26-10 Cessna Aircraft Company: Amendment 39-15776; Docket No. FAA-2008-1328; Directorate Identifier 2008-CE-066-AD.

Effective Date

(a) This AD becomes effective on January 5, 2009.

Affected ADs

(b) This AD relates to AD 98-01-01, Amendment 39-10287 and AD 2008-10-02, Amendment 39-15508. These ADs can be found on the Internet at the following Web site: http://rgl.faa.gov/.

Applicability

(c) This AD applies to all serial numbers (S/Ns) of the airplanes listed in Table 1 of this AD, certificated in any category, that:

(1) Were initially delivered from the manufacturer between January 1, 1993, and March 31, 2008, unless the modification/rework required in AD 2008-10-02 has been done and you remain in compliance with that AD; or

(2) Have a part number (P/N) 2013142-18 installed as a replacement part anytime after January 1, 1993, unless the modification/rework required in AD 2008-10-02 has been done and you remain in compliance with that AD.

Note 1: The affected part was shipped from Cessna Parts Distribution (CPD) between January 1, 1993, and March 31, 2008.

Note 2: P/N 2013142-18 replaced P/Ns 2013142-9, -13, and -17.

Table 1—Applicable Airplane Models
Models
172 | F172K | 177
172A | F172L | 177A
172B | F172M | 177B
172C | F172N | 177RG
172D | F172P | F177RG
172E | FR172E | 180
172F (USAF T-41A) | FR172F | 180A
172G | FR172G | 180B
172H (USAF T-41A) | FR172H | 180C
172I | FR172J | 180D
172K | FR172K | 180E
172L | P172D | 180F
172M | R172E (USAF T-41B), (USAF T-41C and D) | 180G
172N | R172F (USAF T-41) | 180H
172P | R172G (USAF T-41C or D) | 180J
172Q | R172H (USAF T-41D) | 180K
172R | R172J | 182
172S | R172K | 182A
F172D | 172RG | 182B
F172E | 175 | 182C
F172F | 175A | 182D
F172G | 175B | 182E
F172H | 175C | 182F
182G | A185F | U206D
182H | 206 | U206E
182J | 206H | U206F
182K | P206 | U206G
182L | P206A | 207
182M | P206B | 207A
182N | P206C | T207
182P | P206D | T207A
182Q | P206E | 208
182R | T206H | 208B
182S | TP206A | 210
182T | TP206B | 210A
F182P | TP206C | 210B
F182Q | TP206D | 210C
FR182 | TP206E | 210D
R182 | TU206A | 210E
T182 | TU206B | 210F
T182T | TU206C | 210G
TR182 | TU206D | 210H
185 | TU206E | 210J
185A | TU206F | 210K
185B | TU206G | 210L
185C | U206 | 210M
185D | U206A | 210N
185E | U206B | 210R
A185E | U206C | 210-5 (205)
210-5A (205A) | FT337F
T210F | M337B (USAF 02A)
T210G | T337B
T210H | T337C
T210J | T337D
T210K | T337E
T210L | T337F
T210M | T337H
T210N | T337H-SP
T210R
T303
336
337
337A (USAF 02B)
337B
337C
337D
337E
337F
337G
337H
F337E
F337F
F337G
F337H
FT337E

Unsafe Condition

(e) This AD is the result of reports of improper installation of the part number identification placard on the alternate static air source selector valve. We are issuing this AD to prevent erroneous indications from the altimeter, airspeed, and vertical speed indicators, which could cause the pilot to react to incorrect flight information and possibly result in loss of control.

Compliance

(e) To address this problem, you must do the following, unless already done. A person authorized to perform maintenance as specified in 14 CFR section 43.3 of the Federal Aviation Administration Regulations (14 CFR 43.3) is required to do all the actions required in this AD.

Actions | Compliance | Procedures
(1) For all affected airplanes that are not equipped for flight under instrument flight rules (IFR): Inspect the alternate static air source selector valve to assure that the part number identification placard is not obstructing the port | Within the next 100 hours time-in-service (TIS) after January 5, 2009 (the effective date of this AD) or within the next 4 months after January 5, 2009 (the effective date of this AD), whichever occurs first | Following the procedures in Cessna Single Engine Service Bulletin SB08-34-02, Revision 1, dated October 6, 2008; Cessna Caravan Service Bulletin CAB08-4, Revision 1, dated October 6, 2008; Cessna Single Engine Service Bulletin SEB08-5, dated October 13, 2008; or Cessna Multi-engine Service Bulletin MEB08-6, dated October 13, 2008, as applicable.
(2) For all affected airplanes that are equipped for flight under instrument flight rules (IFR): | (A) Inspect within the next 10 days after January 5, 2009 (the effective date of this AD); or (B) Install placards before further flight after January 5, 2009 (the effective date of this AD) | Following the procedures in Cessna Single Engine Service Bulletin SB08-34-02, Revision 1, dated October 6, 2008; Cessna Caravan Service Bulletin CAB08-4, Revision 1, dated October 6, 2008; Cessna Single Engine Service Bulletin SEB08-5, dated October 13, 2008; or Cessna Multi-engine Service Bulletin MEB08-6, dated October 13, 2008, as applicable.
(i) Inspect the alternate static air source selector valve to assure that the part number identification placard is not obstructing the port; or
(ii) Fabricate a placard that incorporates the following words (using at least ⅛-inch letters) and install this placard on the instrument panel within the pilot's clear view: “IFR OPERATION IS PROHIBITED” and “USE OF THE ALTERNATE STATIC AIR SOURCE IS PROHIBITED.”
(3) For all affected airplanes that are equipped for flight under instrument flight rules (IFR): If placards were installed in accordance with paragraph (e)(2)(ii) of this AD, inspect the alternate static air source selector valve to assure that the part number identification placard is not obstructing the port | Within the next 100 hours TIS after January 5, 2009 (the effective date of this AD) or within the next 4 months after January 5, 2009 (the effective date of this AD), whichever occurs first. After doing the inspection, remove the placards installed in accordance with paragraph (e)(2)(ii) of this AD before further flight | Following the procedures in Cessna Single Engine Service Bulletin SB08-34-02, Revision 1, dated October 6, 2008; Cessna Caravan Service Bulletin CAB08-4, Revision 1, dated October 6, 2008; Cessna Single Engine Service Bulletin SEB08-5, dated October 13, 2008; or Cessna Multi-engine Service Bulletin MEB08-6, dated October 13, 2008, as applicable.
(4) For all affected airplanes: If the alternate static air source selector valve port is found obstructed by the part number identification placard during the inspection required in paragraphs (e)(1), (e)(2)(i), and (e)(3) of this AD, remove the placard from the valve body, discard the placard, and assure that the port is open and unobstructed | Before further flight after the inspection required in paragraphs (e)(1), (e)(2)(i), and (e)(3) of this AD | Following the procedures in Cessna Single Engine Service Bulletin SB08-34-02, Revision 1, dated October 6, 2008; Cessna Caravan Service Bulletin CAB08-04, Revision 1, dated October 6, 2008; Cessna Single Engine Service Bulletin SEB08-5, dated October 13, 2008; or Cessna Multi-engine Service Bulletin MEB08-6, dated October 13, 2008, as applicable.
(5) For all affected airplanes: When a replacement valve is needed, only install a P/N 2013142-18 alternate static air source selector valve that has been inspected and the port is found free from obstruction | As of 10 days after January 5, 2009 (the effective date of this AD) | A person authorized to perform maintenance as specified in 14 CFR section 43.3 of the Federal Aviation Administration Regulations (14 CFR 43.3) is required to do the inspection.

(f) Report to the FAA the results of the inspection required by this AD where an obstruction was found.

(1) Submit this report within 10 days after the inspection or 10 days after the effective date of this AD, whichever occurs later.

(2) Use the form in Figure 1 of this AD and submit it to FAA, Manufacturing Inspection District Office, Mid-Continent Airport, 1804 Airport Road, Room 101, Wichita, Kansas 67209; or fax to (316) 946-4189.

(3) The Office of Management and Budget (OMB) approved the information collection requirements contained in this regulation under the provisions of the Paperwork Reduction Act of 1980 (44 U.S.C. 3501 et seq.) and assigned OMB Control Number 2120-0056.

BILLING CODE 4910-13-P

BILLING CODE 4910-13-C

Alternative Methods of Compliance (AMOCs)

(g) The Manager, Wichita Aircraft Certification Office (ACO), FAA, has the authority to approve AMOCs for this AD, if requested using the procedures found in 14 CFR 39.19. Send information to ATTN: Ann Johnson, Aerospace Engineer, FAA, Wichita ACO, 1801 Airport Road, Room 100, Wichita, Kansas 67209; telephone: 316-946-4105; fax: 316-946-4107; e-mail address: ann.johnson@faa.gov. Before using any approved AMOC on any airplane to which the AMOC applies, notify your appropriate principal inspector (PI) in the FAA Flight Standards District Office (FSDO), or lacking a PI, your local FSDO.

(h) AMOCs approved for AD 2008-10-02 are approved for this AD.

Material Incorporated by Reference

(i) You must use Cessna Single Engine Service Bulletin, SB08-34-02, Revision 1, dated October 6, 2008; Cessna Caravan Service Bulletin CAB08-4, Revision 1, dated October 6, 2008; Cessna Single Engine Service Bulletin SEB08-5, dated October 13, 2008; and Cessna Multi-engine Service Bulletin MEB08-6, dated October 13, 2008, to do the actions required by this AD, unless the AD specifies otherwise.

(1) The Director of the Federal Register approved the incorporation by reference of this service information under 5 U.S.C. 552(a) and 1 CFR part 51.

(2) For service information identified in this AD, contact Cessna Aircraft Company, P.O. Box 7704, Wichita, Kansas 67277; telephone: (800) 423-7762 or (316) 517-6056; Internet: http://www.cessna.com.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on December 15, 2008.
Kim Smith,
Manager, Small Airplane Directorate, Aircraft Certification Service.

[FR Doc. E8-30465 Filed 12-23-08; 8:45 am]

BILLING CODE 4910-13-P